COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and services to be furnished by nonprofit agencies employing persons who are blind or have other severe disabilities.

EFFECTIVE DATE: July 8, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On December 8, 2000, October 26, 2001, March 29, April 5, April 12, and April 19, 2002, the Committee for Purchase From People Who Are Blind or Severely Disabled published notice (65 FR 76985, 66 FR 54194, 67 FR 15175, 16366, 17965, 17966, and 19392) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and services to the Government.

2. The action will result in authorizing small entities to furnish the products and services.

3. There are no known regulatory alternatives which would accomplish the objectives of the Javits-Wagner-O'Day Act (41 U.S.C. 46-48c) in connection with the products and services proposed for addition to the Procurement List.

Accordingly, the following products and services are added to the Procurement List:

Products

Product/NSN: Sunscreen Preparation, Gel or Lotion/6505-01-121-2336.

NPA: ACT CORP., Daytona Beach, FL.

Contract Activity: Defense Supply Center—Philadelphia, Philadelphia, PA.

Product/NSN: Refillable Tape Dispenser with Tape/7520-00-NIB-1402.

Product/NSN: Refillable Tape Dispenser with Tape/7520-00-NIB-1516.

NPA: The Lighthouse for the Blind in New Orleans, New Orleans, LA.

Contract Activity: Office Supplies & Paper Products Commodity Center, New York, NY.

Product/NSN: Load Carriage System/8415-00-NSH-0622.

NPA: Chautauqua County Chapter, NYSARC, Jamestown, NY.

Contract Activity: U.S. Army Robert Morris Acquisition Center.

Product/NSN: Load Carriage System Pockets/8415-00-NSH-0600.

Product/NSN: Load Carriage System Pockets/8415-00-NSH-0601.

Product/NSN: Load Carriage System Pockets/8415-00-NSH-0602.

Product/NSN: Load Carriage System Pockets/8415-00-NSH-0603.

Product/NSN: Load Carriage System Pockets/8415-00-NSH-0604.

Product/NSN: Load Carriage System Pockets/8415-00-NSH-0605.

Product/NSN: Load Carriage System Pockets/8415-00-NSH-0606.

Product/NSN: Load Carriage System Pockets/8415-00-NSH-0607.

Product/NSN: Load Carriage System Pockets/8415-00-NSH-0608.

Product/NSN: Load Carriage System Pockets/8415-00-NSH-0609.

Product/NSN: Load Carriage System Pockets/8415-00-NSH-0611.

Product/NSN: Load Carriage System Pockets/8415-00-NSH-0612.

Product/NSN: Load Carriage System Pockets/8415-00-NSH-0613.

Product/NSN: Load Carriage System Pockets/8415-00-NSH-0614.

Product/NSN: Load Carriage System Pockets/8415-00-NSH-0615.

Product/NSN: Load Carriage System Pockets/8415-00-NSH-0616.

Product/NSN: Load Carriage System Pockets/8415-00-NSH-0617.

Product/NSN: Load Carriage System Pockets/8415-00-NSH-0618.

Product/NSN: Load Carriage System Pockets/8415-00-NSH-0619.

Product/NSN: Load Carriage System Pockets/8415-00-NSH-0620.

Product/NSN: Load Carriage System Pockets/8415-00-NSH-0621.

NPA: Chautauqua County Chapter, NYSARC, Jamestown, NY.

Contract Activity: U.S. Army Robert Morris Acquisition Center.

Services

Service Type/Location: Food Service Attendant/Mississippi Air National Guard Building 129, Dining Facility, Jackson, MS.

NPA: Goodwill Industries of Mississippi, Ridgeland, MS.

Contract Activity: Mississippi Air National Guard, Jackson, MS.

Service Type/Location: Janitorial/Custodial/U.S. Coast Guard Air Station—Detroit Selfridge ANG Base, MI.

NPA: New Horizons Rehabilitation Services, Inc., Auburn Hills, MI.

Contract Activity: U.S. Coast Guard, Department of Transportation.

Service Type/Location: Janitorial/Custodial/U.S. Army Reserve Center, Whitehall, OH.

NPA: Licking-Knox Goodwill Industries, Inc., Newark, OH.

Contract Activity: U.S. Army Reserve Center, Fort Snelling, MN.

Service Type/Location: Office Supply Store/Federal Building, Little Rock, AR.

NPA: The Arkansas Lighthouse for the Blind, Little Rock, AR.

Contract Activity: GSA, Public Buildings Service.

Service Type/Location: Office Supply Store/VA Medical Center, San Francisco, CA.

NPA: Associated Industries for the Blind, Milwaukee, WI.

Contract Activity: VA Medical Center, San Francisco, CA.

Service Type/Location: Order Processing Service/National Institute of Health, Bethesda, MD.

NPA: Blind Industries & Services of Maryland, Baltimore, MD.

Contract Activity: Department of Health & Human Services.

This action does not affect current contracts awarded prior to the effective date of this addition or options that may be exercised under those contracts.

Sheryl D. Kennerly,
Director, Information Management.

[FR Doc. 02-14346 Filed 6-6-02; 8:45 am]

BILLING CODE 6353-01-P